DEPARTMENT OF COMMERCE

National Oceanic and Atmospheric Administration

[RTID 0648-XB889]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Tuesday, April 5 through Thursday, April 7, 2022. For agenda details, see SUPPLEMENTARY INFORMATION.

ADDRESSES: This meeting will be conducted in a hybrid format, with options for both in person and webinar participation. The meeting will be held at the Seaview, Dolce Hotel, 401 South New York Road, Galloway, NJ 08205; telephone: (609) 652-1800. Webinar registration details will be available on the Council's website at https://www.mafmc.org/briefing/april-2022.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Tuesday, April 5, 2022

2022 Mid-Atlantic State of the Ecosystem & EAFM Risk Assessment Update Report (Dr. Sarah Gaichas, NEFSC)

Review and provide feedback

Climate Change Scenario Planning

Update on recent webinars and plans for scenario creation workshop

Surfclam Species Diagnostics and Population Connectivity Estimates to Inform Management (Dr. Matthew Hare and Hannah Hurtung, Cornell University)

Offshore Wind Energy Updates

Update on Ocean Wind project

Update on Atlantic Shore wind project

Update from BOEM

Wednesday, April 6, 2022

2023 Golden Tilefish Specifications

Review SSC, Advisory Panel, Monitoring Committee, and staff recommendations for 2023 specifications

Recommend changes to 2023 specifications if necessary

2023 Blueline Tilefish Specifications

Review SSC, Advisory Panel, Monitoring Committee, and staff recommendations for 2023 specifications

Recommend changes to 2023 specifications if necessary

Sea Turtle Bycatch in MAFMC Trawl Fisheries

Review results from public outreach and provide feedback to NMFS

2022 Illex Specifications

Review SSC, Advisory Panel, Monitoring Committee, and staff recommendations for 2022 specifications

Recommend changes to 2022 specifications if necessary

Atlantic Mackerel Rebuilding 2.0 Amendment: Approve Alternatives for Public Hearing Document

Review Committee recommendations and approve alternatives for public hearing document

Thursday, April 7, 2022

Business Session

Committee Reports (SSC, EOP Committee/AP, RSC-RSA, Executive Committee); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

(Authority: 16 U.S.C. 1801 et seq.)

Dated: March 14, 2022.
Tracey L. Thompson,
Acting Deputy Director, Office of Sustainable Fisheries, National Marine Fisheries Service.

[FR Doc. 2022-05638 Filed 3-16-22; 8:45 am]

BILLING CODE 3510-22-P